DEPARTMENT OF DEFENSE

Office of the Secretary

Defense Intelligence Agency National Intelligence University Board of Visitors; Notice of Federal Advisory Committee Meeting

AGENCY: National Intelligence University, Defense Intelligence Agency, Department of Defense.

ACTION: Notice of closed meeting.

SUMMARY: The Department of Defense is publishing this notice to announce that the following Federal Advisory Committee meeting of the National Intelligence University Board of Visitors has been scheduled. The meeting is closed to the public.

DATES: Tuesday, January 14, 2014 (7 a.m. to 5 p.m.) and Wednesday, January 15, 2014 (8: a.m. to 12 p.m.).

ADDRESSES: National Intelligence University, Joint Base Anacostia-Bolling, Washington, DC 20340-5100.

FOR FURTHER INFORMATION CONTACT: Dr. David R. Ellison, President, DIA National Intelligence University, Washington, DC 20340-5100, Phone: (202) 231-3344.

SUPPLEMENTARY INFORMATION: This meeting is being held pursuant to the provisions of Subsection (d) of Section 10 of Public Law 92-463, as amended by section 5 of Public Law 94-409.

Purpose: The Board will discuss several current critical intelligence issues and advise the Director, DIA, as to the successful accomplishment of the mission assigned to the National Intelligence University.

Agenda: The following topics are listed on the National Intelligence University Board of Visitors meeting agenda: Academic Year 2013 Outcomes Assessment; Plans, Programming, and Budget; Assessment/Planning Roll-Up, Bethesda Update; Leadership Certificate; Outreach, Alumni, Foundation; National Intelligence Scholars; Faculty Senate; College of Strategic Intelligence; School of Science and Technology Intelligence; Office of Research; Center for International Engagement; Student Recruitment Strategy; Faculty Hiring; Honorary Degree; and Board of Visitors Succession Planning.

The entire meeting is devoted to the discussion of classified information as defined in 5 U.S.C. 552b(c)(1) and therefore will be closed. Pursuant to 41 CFR 102-3.105(j) and 102-3.140, and section 10(a)(3) of the Federal Advisory Committee Act of 1972, the public or interested organizations may submit written statements to the National Intelligence University Board of Visitors about its mission and functions. Written statements may be submitted at any time or in response to the stated agenda of a planned meeting of the National Intelligence University Board of Visitors. All written statements shall be submitted to the Designated Federal Officer for the National Intelligence University Board of Visitors, and this individual will ensure that the written statements are provided to the membership for their consideration. Contact information for the Designated Federal Officer can be obtained from the GSA's FACA Database— http://facasms.fido.gov/default.aspx.

Due to events beyond the control of the National Intelligence University Board of Visitors or its Designated Federal Officer, the Department of Defense was unable to process the Federal Register notice, as required by 41 CFR 102-3.150(a), for the National Intelligence University Board of Visitor's meeting of January 14-15, 2014. Accordingly, the Advisory Committee Management Officer for the Department of Defense, pursuant to 41 CFR 102-3.150(b), waives the 15-calendar day notification requirement.

Dated: January 2, 2014.
Aaron Siegel,
Alternate OSD Federal Register Liaison Officer, Department of Defense.

[FR Doc. 2014-00005 Filed 1-6-14; 8:45 am]

BILLING CODE 5001-06-P